DEPARTMENT OF DEFENSE

Department of the Army

Army Science Board Fall Meeting

AGENCY: Department of the Army, DoD.

ACTION: Notice of open meeting.

SUMMARY: Pursuant to the Federal Advisory Committee Act of 1972 (5 U.S.C., Appendix, as amended), the Government in the Sunshine of 1976 (U.S.C. 552b, as amended) and 41 Code of the Federal Regulations (CFR 102-3.140 through 160, the Department of the Army announces the following committee meeting:

Name of Committee: Army Science Board (ASB).

Date(s) of Meeting: November 5-6 2008.

Time(s) of Meeting: 0800-1700, November 5, 2008, 0800-1700, November 6, 2008.

Place of Meeting—Huntsville Marriott, 5 Tranquility Base, Huntsville, AL 35805.

FOR FURTHER INFORMATION CONTACT: For information, please contact Ms. Vivian Baylor at vivian.baylor@hqda.army.mil or at 703-604-7472 or Mr. Justin Bringhurst at justin.bringhurst@us.army.mil or at 703-604-7468. Written submissions are to be submitted to the following address: Army Science Board, ATTN: Designated Federal Officer, 2511 Jefferson Davis Highway, Suite 11500, Arlington, VA 22202-3911.

SUPPLEMENTARY INFORMATION: Proposed Agenda: The Army Science Board will meet on November 5-6, 2008. Purpose of the meeting 5 November is to welcome new members to the Board, conduct annual required ethics training, and to conduct routine board administrative functions. Briefings of interest on science and technology will be provided by Army staff on 6 November at Redstone Arsenal.

Filing Written Statement: Pursuant to 41 CFR 102-3.140d, the Committee is not obligated to allow the public to speak; however, interested persons may submit a written statement for consideration by the Subcommittees. Individuals submitting a written statement must submit their statement to the Designated Federal Officer (DFO) at the address listed (see FOR FURTHER INFORMATION CONTACT section). Written statements not received at least 10 calendar days prior to the meeting, may not be provided to or considered by the subcommittees until its next meeting.

The DFO will review all timely submissions with the subcommittee Chairs and ensure they are provided to the specific subcommittee members before the meeting. After reviewing written comments, the subcommittee Chairs and the DFO may choose to invite the submitter of the comments to orally present their issue during a future open meeting.

The DFO, in consultation with the subcommittee Chairs, may allot a specific amount of time for the members of the public to present their issues for review and discussion.

Additional Comments: Due to scheduling difficulties the Army Science Board was unable to finalize its agenda in time to publish notice of its meeting in the Federal Register for the 15-calendar days required by 41 CFR 102-3.150(a). Accordingly, the Committee Management Officer for the Department of Defense, pursuant to 41 CFR 102-3.150(b), waives the 15-calendar day notification requirement.

Brenda S. Bowen,
Army Federal Register Liaison Officer.

[FR Doc. E8-25282 Filed 10-22-08; 8:45 am]

BILLING CODE 3710-08-P